DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

The New York, Susquehanna and Western Railway Corporation (Waiver Petition Docket Number FRA-2000-7414)

The New York, Susquehanna and Western Railway Corporation (NYSW) seeks a waiver of compliance from the provisions of the Track Safety Standards, 49 CFR 213.237(a), regarding the continuous search of rail for internal defects. The NYSW operates infrequent seasonal passenger excursion trains over portions of three separate low tonnage main lines which are classified as Class 3 track and therefore, due to the operation of passenger trains, require a yearly inspection for internal rail defects.

The NYSW is petitioning for a waiver which would allow them to schedule inspections for internal rail defects on a tonnage based frequency, which would be the requirement of the Track Safety Standards absent any passenger train operation over these specific portions of track. The petitioner cites the low volume of traffic, the virtual non-existent history of train derailments over these track segments, and the NYSW's policy of performing visual track inspections prior to the operation of each passenger excursion trains as arguments in favor of relief.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2000-7414) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's web site at

http://dms.dot.gov.

Issued in Washington, D.C. on September 21, 2000.
Edward R. English,
Director, Office of Safety, Assurance and Compliance.

[FR Doc. 00-24715 Filed 9-26-00; 8:45 am]

BILLING CODE 4910-06-P